DEPARTMENT OF COMMERCE

Foreign-Trade Zones Board

[S-48-2023]

Approval of Subzone Status; Givaudan Fragrances Corporation; Mount Olive, Flanders and Towaco, New Jersey

On March 21, 2023, the Executive Secretary of the Foreign-Trade Zones (FTZ) Board docketed an application submitted by the State of New Jersey Department of State, grantee of FTZ 44, requesting subzone status subject to the existing activation limit of FTZ 44, on behalf of Givaudan Fragrances Corporation, in Mount Olive, Flanders and Towaco, New Jersey.

The application was processed in accordance with the FTZ Act and Regulations, including notice in the Federal Register inviting public comment (88 FR 17792-17793, March 24, 2023). The FTZ staff examiner reviewed the application and determined that it meets the criteria for approval. Pursuant to the authority delegated to the FTZ Board Executive Secretary (15 CFR Sec. 400.36(f)), the application to establish Subzone 44P was approved on May 4, 2023, subject to the FTZ Act and the Board's regulations, including Section 400.13, and further subject to FTZ 44's 407.5-acre activation limit.

Dated: May 4, 2023.
Elizabeth Whiteman,
Acting Executive Secretary.

[FR Doc. 2023-09853 Filed 5-8-23; 8:45 am]

BILLING CODE 3510-DS-P